ENVIRONMENTAL PROTECTION AGENCY

40 CFR Part 52

[EPA-R04-OAR-2015-0413; FRL-9931-65-Region 4]

Approval and Promulgation of Implementation Plans; Georgia: Revisions to Definitions and Ambient Air Quality Standards

AGENCY: Environmental Protection Agency.

ACTION: Direct final rule.

SUMMARY: The Environmental Protection Agency (EPA) is taking direct final action to approve portions of State Implementation Plan (SIP) revisions submitted by the State of Georgia, through the Georgia Department of Natural Resources' Environmental Protection Division (GA EPD), on August 30, 2010, December 15, 2011, and November 12, 2014. The SIP submittals include changes to GA EPD's air quality rules that, among other things, modify definitions and modify the ambient air standards for fine particulate matter. The portions of the SIP revisions that EPA is approving are consistent with the requirements of the Clean Air Act (CAA).

DATES: This direct final rule is effective September 29, 2015 without further notice, unless EPA receives adverse comment by August 31, 2015. If EPA receives such comments, it will publish a timely withdrawal of the direct final rule in the Federal Register and inform the public that the rule will not take effect.

ADDRESSES: Submit your comments, identified by Docket ID No. EPA-R04-OAR-2015-0413, by one of the following methods:

1. www.regulations.gov: Follow the on-line instructions for submitting comments.

2. Email: R4-ARMS@epa.gov.

3. Fax: (404) 562-9019.

4. Mail: “EPA-R04-OAR-2015-0413,” Air Regulatory Management Section (formerly Regulatory Development Section), Air Planning and Implementation Branch (formerly Air Planning Branch), Air, Pesticides and Toxics Management Division, U.S. Environmental Protection Agency, Region 4, 61 Forsyth Street SW., Atlanta, Georgia 30303-8960.

5. Hand Delivery or Courier: Lynorae Benjamin, Chief, Air Regulatory Management Section, Air Planning and Implementation Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 a.m. to 4:30 p.m., excluding Federal holidays.

Instructions: Direct your comments to Docket ID No. “EPA-R04-OAR-2015-0413.” EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information may not be publicly available, i.e., CBI or other information whose disclosure is restricted by statute. Certain other material, such as copyrighted material, is not placed on the Internet and will be publicly available only in hard copy form. Publicly available docket materials are available either electronically in www.regulations.gov or in hard copy at the Air Regulatory Management Section, Air Planning and Implementation Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 a.m. to 4:30 p.m., excluding Federal holidays.

FOR FURTHER INFORMATION CONTACT: D. Brad Akers, Air Regulatory Management Section, Air Planning and Implementation Branch, Air, Pesticides and Toxics Management Division, U.S. Environmental Protection Agency, Region 4, 61 Forsyth Street SW., Atlanta, Georgia 30303-8960. Mr. Akers can be reached by phone at (404) 562-9089 or via electronic mail at akers.brad@epa.gov.

SUPPLEMENTARY INFORMATION:

I. Background

On August 30, 2010, December 15, 2011, and November 12, 2014, GA EPD submitted SIP revisions to EPA for review and approval into the Georgia SIP that contain changes to a number of Georgia's air quality rules at rule chapter 391-3-1. The changes that EPA is approving into the SIP today modify portions of Rule 391-3-1-.01—“Definitions,” and Rule 391-3-1-.02(4)—“Ambient Air Standards.” The changes requested by Georgia in the three SIP revisions are discussed below.

EPA is not acting on the changes to the following rule sections proposed by Georgia because the rule sections are not incorporated into the SIP: Rule 391-3-1-.02(8)(b)—“New Source Performance Standards” (August 30, 2010, and November 12, 2014, submittals); Rule 391-3-1-.02(9)(b)—“Emission Standards for Hazardous Air Pollutants” (August 30, 2010, December 15, 2011, and November 12, 2014, submittals); Rule 391-3-1-.03(9)—“Permit Fees” (August 30, 2010, and December 15, 2011, submittals); Rule 391-3-1-.02(2)(www)—“Sewage Sludge Incineration Units Constructed On or Before October 14, 2010” (November 12, 2014, submittal); and Rule 391-3-1-.03(10)—“Title V Operating Permits” (November 12, 2014, submittal). EPA is not acting on changes to Rule 391-3-1-.02(2)(uuu)—“SO2 Emissions from Electric Utility Steam Generating Units,” included in the December 15, 2011, submittal because the rule is not part of the SIP and the State's prior request to incorporate the rule into the SIP was withdrawn from EPA consideration by the State in a letter dated December 9, 2014. At this time, the Agency is not acting on changes to Rule 391-3-1-.01(cccc)—“Synthetic Minor Permits” or related changes to Rule 391-3-1-.03(11)—“Permit by Rule,” in the December 15, 2011, submittal or changes to Rule 391-3-1-.03(8) in the December 15, 2011, submittal because those revisions will be addressed in a separate action. Changes to Rule 391-3-1-.02(4)—“Ambient Air Standards,” from the August 30, 2010, and December 15, 2011, submittals were previously approved, and therefore, are not before the EPA for consideration in today's action. See 78 FR 28744 (May 16, 2013).

EPA is also not acting on changes to Rule 391-3-1-.02(7)—“Prevention of Significant Deterioration” in the December 15, 2011, or November 12, 2014, submittals at this time because these changes will be addressed in a separate action. The Agency is not acting on changes to Rule 391-3-1-.02(7) from two August 30, 2010, submittals because the changes were previously submitted to EPA in an October 31, 2006, submittal and approved into the SIP. See 75 FR 71018 (November 22, 2010). Finally, EPA is not taking action on changes to Rule 391-3-1-.03(13)(c)—“Quantification of Emission Reduction Credits,” included in one August 30, 2010, submittal, because the version of the rule in the SIP already contains the requested language.¹

¹ Following EPA's approval of Rule 391-3-1-.03(13) into the SIP, the State modified provision 391-3-1-.03(13)(c) and submitted that change to EPA as a SIP revision on March 5, 2007. EPA disapproved that change on December 30, 2008. See 73 FR 79653. Georgia subsequently reverted to the original language in 391-3-1-.03(13)(c) and submitted that original language to EPA for approval in its August 30, 2010, SIP revision. Because the version of 391-3-1-.03(13)(c) incorporated into the SIP did not change to reflect the State's proposed 2007 modification, there is currently no modification for EPA to act on.

II. Analysis of Georgia's Submittals

A. Rule 391-3-1-.01—“Definitions”

1. Rule 391-3-1-.01(llll)—“Volatile Organic Compound”

Georgia is amending its definition of volatile organic compound (VOC) at Rule 391-3-.01(llll) ² by adding eight additional compounds to the list of compounds excluded from the definition of VOC and by excluding one compound from VOC emissions limitations or VOC content requirements (this compound remains a “VOC” for recordkeeping, emissions inventories, and modeling purposes). GA EPD is revising its definition of VOC to reflect modifications to the Federal definition at 40 CFR 51.100(s) made by EPA on February 20, 2009 (74 FR 3437) (reflected in the August 30, 2010, submittal) and on November 29, 2004 (69 FR 69298), February 12, 2013 (78 FR 9823), August 28, 2013 (78 FR 53029), and October 22, 2013 (78 FR 62451) (reflected in the November 12, 2014, submittal).

² Additionally, GA EPD submitted a change to Rule 391-3-1-.01(llll) (and changes to several other rules) to EPA in an October 31, 2006, submittal (available at Docket ID: EPA-R04-OAR-2006-0649-201059). However, GA EPD did not request that EPA act to approve many of these changes into the SIP, including the change to Rule 391-3-1-.01(llll), in the submittal cover letter. Therefore, EPA does not consider the changes in the October 31, 2006, submittal that were not identified by the State for approval into the SIP to be part of an official SIP revision package. EPA has acted only on the rule changes in the October 31, 2006, submittal that Georgia requested for inclusion into the SIP. See 74 FR 62249 and 75 FR 71018 (November 27, 2009; November 22, 2010).

EPA's policy is that compounds of carbon with a negligible level of reactivity need not be regulated to reduce ozone. See 42 FR 35314 (July 8, 1977). EPA determines whether a given carbon compound has “negligible” reactivity by comparing the compound's reactivity to the reactivity of ethane. EPA excludes these compounds in its definition of VOC at 40 CFR 51.100(s). The chemicals on this list are often called “negligibly reactive.” EPA may periodically add compounds to or delete compounds from the list of negligibly reactive compounds in 40 CFR 51.100(s).

The changes approved to the SIP today update the definition of VOC at Rule 391-3-1-.01(llll) for consistency with the definition of VOC at 40 CFR 51.100(s) by: (1) Adding eight additional compounds to the list of compounds excluded from the definition of VOC; ³ and (2) adding the following paragraph to clarify the status of t-butyl acetate—“[t]he following compound(s) are VOC for purposes of all recordkeeping, emissions reporting, photochemical dispersion modeling and inventory requirements which apply to VOC and shall be uniquely identified in emission reports, but are not VOC for purposes of VOC emissions limitations or VOC content requirements: t-butyl acetate.”

³ The eight compounds are: propylene carbonate; dimethyl carbonate; HCF2OCF2H (HFE-134); HCF2OCF2OCF2H (HFE-236cal2); HCF2OCF2CF2OCF2H (HFE-338pcc13); HCF2OCF2OCF2CF2OCF2H (H-Galden 1040x or H-Galden ZT 130 (or 150 or 180)); trans-1-chloro-3,3,3-trifluoroprop-1-ene; and 2,3,3,3-tetrafluoropropene. These compounds are excluded from the Federal definition of VOC at 40 CFR 51.100(s).

EPA is approving these changes to Rule 391-3-1-.01(llll) into the SIP to maintain consistency with the Federal definition of VOC at 40 CFR 51.100(s). These rule changes became state effective on July 20, 2009, and October 14, 2014.

2. 391-3-1-.01(nnnn)—“Procedures for Testing and Monitoring Sources of Air Pollutants”

In the November 12, 2014, submittal, Georgia is amending the definition of “Procedures for Testing and Monitoring Sources of Air Pollutants” at Rule 391-3-1-.01(nnnn) to reference the February 7, 2014, version of the Georgia Department of Natural Resources document entitled “Procedures for Testing and Monitoring Sources of Air Pollutants.” The purpose of that document is to identify the procedures used for testing and monitoring the air pollutant sources. The August 30, 2010, submittal revised the date of the document to reflect then-current version of the document, dated March 1, 2009; and the December 15, 2011, submittal revised the date to the then-current version, dated February 1, 2011. However, the more current November 12, 2014, SIP submittal revised the date to reflect the February 7, 2014, version of the document, and this revision supersedes the revisions submitted on August 30, 2010, and December 15, 2011. This change to the SIP is approvable because it merely updates the date of the “Procedures for Testing and Monitoring Sources of Air Pollutants” document referenced in the SIP-approved version of Rule 391-3-1-.01(nnnn). The revision to this rule in the November 12, 2014, SIP revision became state effective on October 14, 2014.

B. Rule 391-3-1-.02(4)—“Ambient Air Standards”

Georgia is amending Rule 391-3-1-.02(4)(c)2.(ii), relating to the ambient air standards for fine particulate matter (PM2.5), to reflect the 2012 annual national ambient air quality standards (NAAQS) for this pollutant, set at 12.0 micrograms per cubic meter on December 14, 2012. See 78 FR 3086 (January 15, 2013). EPA is approving this revision to the Georgia SIP to maintain consistency with the PM2.5 NAAQS at the time that the submission was provided to EPA. Georgia's rule revision became state effective on October 14, 2014.

III. Incorporation by Reference

In this rule, EPA is finalizing regulatory text that includes incorporation by reference. In accordance with requirements of 1 CFR 51.5, EPA is finalizing the incorporate by reference of the revised definition of “Volatile Organic Compound” at Rule 391-3-1-.01(llll) (state effective on July 20, 2009, and October 14, 2014), the revised definition of “Procedures for Testing and Monitoring Sources of Air Pollutants” at Rule 391-3-1-.01(nnnn) (state effective on October 14, 2014), and the revisions to the PM2.5 ambient air standard at Rule 391-3-1-.02(4)(c)2.(ii) (state effective on October 14, 2014). EPA has made, and will continue to make, these documents generally available electronically through www.regulations.gov and/or in hard copy at the appropriate EPA office (see the ADDRESSES section of this preamble for more information).

IV. Final Action

EPA is taking direct final action to approve the changes to the Georgia SIP specifically identified in section II, above, because these changes are consistent with the CAA. EPA is publishing this rule without prior proposal because the Agency views these as noncontroversial submittals and anticipates no adverse comments. However, in the proposed rules section of this Federal Register publication, EPA is publishing a separate document that will serve as the proposal to approve the changes should adverse comments be filed. This rule will be effective September 29, 2015 without further notice unless the Agency receives adverse comments by August 31, 2015.

If EPA receives such comments, then EPA will publish a document withdrawing the final rule and informing the public that the rule will not take effect. All public comments received will then be addressed in a subsequent final rule based on the proposed rule. EPA will not institute a second comment period. Parties interested in commenting should do so at this time. If no such comments are received, the public is advised that this rule will be effective on September 29, 2015 and no further action will be taken on the proposed rule. Please note that if we receive adverse comment on an amendment, paragraph, or section of this rule and if that provision may be severed from the remainder of the rule, we may adopt as final those provisions of the rule that are not the subject of an adverse comment.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by September 29, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. See section 307(b)(2).

List of Subjects in 40 CFR Part 52

Environmental protection, Air pollution control, Incorporation by reference, Intergovernmental relations, Particulate matter, Volatile organic compounds.

Dated: July 22, 2015.
Heather McTeer Toney,
Regional Administrator, Region 4.

40 CFR part 52 is amended as follows:

PART 52—APPROVAL AND PROMULGATION OF IMPLEMENTATION PLANS

1. The authority citation for part 52 continues to read as follows:

Authority: 42 U.S.C. 7401 et seq.

Subpart L—Georgia

2. Section 52.570(c) is amended by revising the entries for “391-3-1-.01” and “391-3-1-.02(4)” to read as follows:

§ 52.570 Identification of plan.

* * * * *

(c) * * *

EPA-Approved Georgia Regulations
State citation | Title/subject | State effective date | EPA approval date | Explanation
391-3-1-.01 | Definitions | 10/14/2014 | 7/31/2015, [Insert citation of publication] |
* * * * * * *
391-3-1-.02(4) | Ambient Air Standards | 10/14/2014 | 7/31/2015, [Insert citation of publication] |
* * * * * * *

* * * * *

[FR Doc. 2015-18758 Filed 7-30-15; 8:45 am]

BILLING CODE 6560-50-P